DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 18, 2000.

ADDRESS COMMENTS TO: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on April 12, 2000.
J. Suzanne Hedgepeth,
Director, Office of Hazardous Materials Exemptions and Approvals.

New Exemptions
Application No. | Docket No. | Applicant | Regulation(s) affected | Nature of exemption thereof
12440-N | RSPA-00-7212 | Luxfer Inc., Riverside, CA | 49 CFR 173.301(h), 173.302(a), 178.46(a)(4), 178.46(c)(i) | To authorize the manufacture, marking and sale of non-DOT specification cylinders for use in transporting various Division 2.2 materials. (Modes 1, 2, 3, 4.)
12442-N | RSPA-00-7208 | Cryogenic Vessel Alternatives, La Porte, TX | 49 CFR 178.338 | To authorize the transportation in commerce of liquid nitrogen, cryogenic liquid, Division 2.2 in insulated portable tanks by cargo vessel for delivery to oil and gas production facilities. (Modes 1, 3.)
12443-N | RSPA-00-7209 | ChemCentral/Charlotte, Charlotte, NC | 49 CFR 174.67(i) & (j) | To authorize rail cars containing Class 8 hazardous materials to remain attached to unloading connectors without the physical presence of an unloader. (Mode 2.)
12444-N | RSPA-00-7210 | ST Services, Dallas, TX | 49 CFR 174.67(i) & (j) | To authorize rail cars containing Class 3 hazardous material to remain attached to unloading connectors without the physical presence of an unloader. (Mode 2.)
12446-N | RSPA-00-7211 | Japan Defense Agency, Redstone Arsenal, AL | 49 CFR 173.301(i) | To authorize the transportation in commerce of foreign high pressure gas cylinders containing Division 2.2 material. (Modes 1, 2.)
12449-N | RSPA-00-7213 | Indesin S.A. de C.V., Estado de, MX | 49 CFR 173.315 | To authorize the manufacture, marking and sale of a non-DOT specification pressure vessel for use in transporting compressed gases classed in Division 2.1 and 2.2. (Modes 1, 2, 3.)
12450-N | RSPA-00-7214 | Indesin S.A. de C.V., Estado de, MX | 49 CFR 173.315 | To authorize the manufacture, marking and sale of a non-DOT specification pressure vessel for use in transporting chlorine, Division 2.3. (Modes 1, 2, 3.)

[FR Doc. 00-9637 Filed 4-17-00; 8:45 am]

BILLING CODE 4910-60-M